DEPARTMENT OF COMMERCE

International Trade Administration

A-337-804, A-533-813, A-560-802, A-570-851

Certain Preserved Mushrooms from Chile, India, Indonesia and the People's Republic of China: Final Results of the Expedited Sunset Reviews of the Antidumping Duty Orders

AGENCY: Import Administration, International Trade Administration, Department of Commerce.

SUMMARY: On October 1, 2009, the Department of Commerce (the Department) initiated sunset reviews of the antidumping duty orders on certain preserved mushrooms from Chile, India, Indonesia, and the People's Republic of China (PRC), pursuant to section 751(c) of the Tariff Act of 1930, as amended (the Act). The Department has conducted expedited (120-day) sunset reviews for these orders pursuant to 19 CFR 351.218(e)(1)(ii)(C)(2). As a result of these sunset reviews, the Department finds that revocation of the antidumping duty orders would be likely to lead to continuation or recurrence of dumping.

FOR FURTHER INFORMATION CONTACT: David Goldberger or Kate Johnson, AD/CVD Operations, Office 2, Import Administration, International Trade Administration, U.S. Department of Commerce, 14th Street & Constitution Avenue, NW, Washington, DC 20230; telephone: (202) 482-4136 and (202) 482-4929, respectively.

SUPPLEMENTARY INFORMATION:

Background

On December 2, 1998, the Department published the antidumping duty order on certain preserved mushrooms from Chile. See Notice of Antidumping Duty Order: Certain Preserved Mushrooms from Chile, 63 FR 66529 (December 2, 1998). On February 19, 1999, the Department published the antidumping duty orders on certain preserved mushrooms from India, Indonesia, and the PRC. See Notice of Amendment of Final Determination of Sales at Less Than Fair Value and Antidumping Duty Order: Certain Preserved Mushrooms from India, 64 FR 8311 (February 19, 1999); Notice of Antidumping Duty Order: Certain Preserved Mushrooms from Indonesia, 64 FR 8310 (February 19, 1999); and Notice of Amendment of Final Determination of Sales at Less Than Fair Value and Antidumping Duty Order: Certain Preserved Mushrooms from the People's Republic of China, 64 FR 8308 (February 19, 1999).

In 2003-2004, the Department conducted the first sunset review on imports of certain preserved mushrooms from Chile, India, Indonesia, and the PRC, pursuant to section 751(c) of the Act, and found that revocation of the antidumping duty orders would be likely to lead to continuation or recurrence of dumping at the same rates as found in the original investigations.¹ In November 2004, the U.S. International Trade Commission (ITC) determined, pursuant to section 751(c) of the Act, that revocation of these antidumping duty orders would be likely to lead to continuation or recurrence of material injury to an industry in the United States within a reasonably foreseeable time.² Also in November 2004, the Department published a notice of continuation of these antidumping duty orders.³

¹ See Certain Preserved Mushrooms from Chile, India, Indonesia and the People's Republic of China: Final Results of Expedited Sunset Reviews of Antidumping Duty Orders, 69 FR 11384 (March 10, 2004).

² See Certain Preserved Mushrooms from Chile, China, India, and Indonesia, 69 FR 63408 (November 1, 2004).

³ See Continuation of Antidumping Duty Orders on Certain Preserved Mushrooms form Chile, the People's Republic of China, India, and Indonesia, 69 FR 67308 (November 17, 2004).

On October 1, 2009, the Department published the notice of initiation of the sunset reviews of the antidumping duty orders on certain preserved mushrooms from Chile, India, Indonesia, and the PRC, pursuant to section 751(c) of the Act. See Initiation of Five-year (“Sunset”) Reviews, 74 FR 50776 (October 1, 2009) (Notice of Initiation).

The Department received a notice of intent to participate from the Coalition for Fair Preserved Mushroom Trade (the “Coalition”), a domestic interested party, which is comprised of L.K. Bowman Company, a division of Hanover Foods Corporation, Monterey Mushrooms, Inc., The Mushroom Company (formerly Mushroom Canning Company), and Sunny Dell Foods, Inc., within the deadline specified in 19 CFR 351.218(d)(1)(i). The Coalition claimed interested party status under section 771(9)(C) of the Act as a manufacturer of a domestic like product in the United States.

The Department received a complete substantive response to the notice of initiation from the domestic interested party within the 30-day deadline specified in 19 CFR 351.218(d)(3)(i). We received no substantive responses from respondent interested parties with respect to any of the orders covered by these sunset reviews, nor was a hearing requested. As a result, pursuant to 19 CFR 351.218(e)(1)(ii)(C)(2), the Department conducted expedited (120-day) sunset reviews of the antidumping duty orders on certain preserved mushrooms from Chile, India, Indonesia, and the PRC.

Scope of the Orders

The products covered under the Certain Preserved Mushrooms orders are imported whole, sliced, diced, or as stems and pieces. The “preserved mushrooms” covered under the orders are the species Agaricus bisporus and Agaricus bitorquis. “Preserved mushrooms” refer to mushrooms that have been prepared or preserved by cleaning, blanching, and sometimes slicing or cutting. These mushrooms are then packed and heated in containers, including but not limited to cans or glass jars in a suitable liquid medium, including but not limited to water, brine, butter or butter sauce. Included within the scope of these orders are “brined” mushrooms, which are presalted and packed in a heavy salt solution to provisionally preserve them for further processing. Also included within the scope of these orders, as of June 19, 2000, are marinated, acidified, or pickled mushrooms containing less than 0.5 percent acetic acid.

Excluded from the scope of these orders are the following: (1) all other species of mushroom, including straw mushrooms; (2) all fresh and chilled mushrooms, including “refrigerated” or “quick blanched mushrooms”; (3) dried mushrooms; and (4) frozen mushrooms. The merchandise subject to these orders was previously classifiable under subheadings 2003.10.0027, 2003.10.0031, 2003.10.0037, 2003.10.0043, 2003.10.0047, 2003.10.0053, and 0711.90.4000 of the Harmonized Tariff Schedule of the United States (“HTSUS”). Although the HTSUS subheadings are provided for convenience and customs purposes, the written description of the scope of these orders is dispositive. As of January 1, 2002, the HTSUS subheadings are as follows: 2003.10.0127, 2003.10.0131, 2003.10.0137, 2003.10.0143, 2003.10.0147, 2003.10.0153, 0711.51.0000.

Analysis of Comments Received

All issues raised in these reviews are addressed in the “Issues and Decision Memorandum for the Expedited Sunset Reviews of the Antidumping Duty Orders on Certain Preserved Mushrooms from Chile, India, Indonesia, and the People's Republic of China” from John M. Andersen, Acting Deputy Assistant Secretary for Antidumping and Countervailing Duty Operations, to Ronald K. Lorentzen, Deputy Assistant Secretary for Import Administration (Decision Memo), which is hereby adopted by, and issued concurrently with, this notice. The issues discussed in the Decision Memo include the likelihood of continuation or recurrence of dumping and the magnitude of the margins likely to prevail if the orders were revoked. Parties can find a complete discussion of all issues raised in these reviews and the corresponding recommendations in this public memorandum which is on file in the Central Records Unit, room 1117 of the main Department building.

In addition, a complete version of the Decision Memo can be accessed directly on the Web at http://ia.ita.doc.gov/frn. The paper copy and electronic version of the Decision Memo are identical in content.

Final Results of Reviews

We determine that revocation of the antidumping duty orders on certain preserved mushrooms from Chile, India, Indonesia, and the PRC would be likely to lead to continuation or recurrence of dumping at the following weighted-average percentage margins:

Manufacturers/Exporters/Producers | Weighted-Average Margin (percent)
Chile
Nature's Farm Products (Chile) S.A. | 148.51
All-Others Rate | 148.51
India
Agro Dutch Foods Ltd. | 6.28
KICM (Madras) Ltd.* | 14.91
Alpine Biotech Ltd. | 243.87
Mandeep Mushrooms Ltd. | 243.87
All-Others Rate | 11.30
Indonesia
PT Dieng Djaya/PT Surya Jaya Abadi Perkasa | 7.94
PT Zeta Agro Corporation | *revoked
All-Others Rate | 11.26
PRC
China Processed Food I&E Co./Xiamen Jiahua I&E Trading Company, Ltd. | 121.47
Tak Fat Trading Co. | 162.47
Shenzhen Cofry Cereals, Oils, & Foodstuffs Co., Ltd. | 151.15
Gerber (Yunnan) Food Co. | 142.11
Jiangsu Cereals,Oils & Foodstuffs Group Import & Export Corporation | 142.11
Fujian Provincial Cereals, Oils & Foodstuffs I&E Corp. | 142.11
Putian Cannery Fujian Province | 142.11
Xiamen Gulong I&E Co., Ltd. | 142.11
General Canned Foods Factory of Zhangzhou | 142.11
Zhejiang Cereals,Oils & Foodstuffs I&E Corp. | 142.11
Shanghai Foodstuffs I&E Corp. | 142.11
Canned Goods Co. of Raoping | 142.11
PRC-wide Rate | 198.63
*The Department conducted a changed circumstances review and found that KICM (Madras) Limited was the successor-in-interest to Hindustan Lever Limited (formerly known as Ponds (India) Ltd.). See Certain Preserved Mushrooms from India: Final Results of Changed Circumstances Review, 68 FR 6884 (February 11, 2003); Certain Preserved Mushrooms from India: Preliminary Results of Antidumping Duty Administrative Review, 67 FR 10371 (March 7, 2002), unchanged in Certain Preserved Mushrooms from India: Final Results of Antidumping Duty Administrative Review, 67 FR 46172 (July 12, 2002).
*Effective February 1, 2002, the antidumping duty order with respect to PT Zeta Agro Corporation was revoked. See Final Results of Antidumping Duty Administrative Review: Certain Preserved Mushrooms from Indonesia and Final Determination to Revoke Order in Part, 68 FR 39521 (July 2, 2003).

This notice also serves as the only reminder to parties subject to administrative protective orders (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the results and notice in accordance with sections 751(c), 752(c), and 777(i)(1) of the Act.

Dated: December 14, 2009.
Ronald K. Lorentzen,
Deputy Assistant Secretary for Import Administration.

[FR Doc. E9-30156 Filed 12-17-09; 8:45 am]

BILLING CODE 3510-DS-S